DEPARTMENT OF THE INTERIOR

National Park Service

[NPS-IMR-GRSA-24169; PPWONRADE2, PMP00EI05.YP0000]

Ungulate Management Plan Draft Environmental Impact Statement, Great Sand Dunes National Park and Preserve, Colorado

AGENCY: National Park Service, Interior.

ACTION: Notice of availability; request for comments.

SUMMARY: The National Park Service announces the availability of a Draft Environmental Impact Statement (DEIS) for the Ungulate Management Plan (UMP) for Great Sand Dunes National Park and Preserve, Colorado. The UMP DEIS assesses the impacts that could result from continuing current management (the no-action alternative), or implementing any of the action alternatives for the future management of elk and bison at Great Sand Dunes. The NPS preferred alternative identified in the UMP DEIS is alternative 3.

DATES: The National Park Service will accept comments on the Draft Environmental Impact Statement for 45 days after the date the Environmental Protection Agency publishes their Notice of Availability in the Federal Register.

ADDRESSES: Information will be available for public review and comment online at http://parkplanning.nps.gov/grsa, and in the Office of the Superintendent, Great Sand Dunes National Park and Preserve, 11500 Highway 150 Mosca, Colorado 81146.

FOR FURTHER INFORMATION CONTACT: Acting Superintendent, Great Sand Dunes National Park and Preserve, 11500 Highway 150, Mosca, Colorado 81146, (719) 378-6311, grsa_superintendent@nps.gov; or Fred Bunch, Chief of Resource Management, Great Sand Dunes National Park and Preserve, 11500 Highway 150, Mosca, Colorado 81146, (719) 378-6361, fred_bunch@nps.gov.

SUPPLEMENTARY INFORMATION: The combined General Management Plan (GMP)/Wilderness Study for the Great Sand Dunes National Park and Preserve (GRSA) was approved in 2007. In the GMP Record of Decision, the NPS committed to developing an elk management plan to address concerns of elk overconcentration in GRSA. The GMP also addressed the potential future acquisition of the Medano Ranch from The Nature Conservancy (TNC). TNC currently manages a bison herd on these lands, and the GMP noted if additional bison habitat became available at some time in the future, the NPS could consider managing bison in the park.

As a result of the guidance in the GMP and active, ongoing efforts to acquire the Medano Ranch, the NPS has prepared this Ungulate Management Plan Draft Environmental Impact Statement (UMP DEIS). The purpose of the UMP DEIS is to determine the appropriate future management of elk and bison in GRSA. Action is needed at this time because:

• Elk and bison are currently on the landscape and there is no plan to address their management and impacts, both positive and negative, in support of desired habitat conditions.

• Disproportionate elk use in sensitive and highly productive/diverse areas of the park is leading to adverse impacts, particularly in wetland vegetation communities. In addition, the existing bison herd spends a disproportionate amount of time using these same vegetation communities, particularly during winter when elk overconcentration is the highest.

• Bison are currently managed by TNC on the Medano Ranch and portions of the Park and a decision is needed to determine whether to have bison at GRSA in the future and, if so, how to manage them.

• The Department of the Interior (DOI) Bison Conservation Initiative and the NPS Call to Action (Back Home on the Range), combined with additional information about bison and bison habitat in the San Luis Valley, provides an opportunity to reexamine the potential for bison conservation following the 2007 GMP.

This UMP DEIS, which was prepared with the US Fish and Wildlife Service and Colorado Parks and Wildlife as cooperating agencies, evaluates the impacts of the no-action alternative (Alternative 1) and three action alternatives (Alternatives 2, 3, and 4).

Under alternative 1, public elk hunting would continue in the Preserve, but there would be no other active elk management and no new action would occur to manage impacts from elk, including the effects of elk herbivory. TNC would continue to graze bison on the Medano Ranch until government acquisition and would be responsible for removing their bison and associated fencing prior to NPS acquisition of the Medano Ranch, in accordance with the 2007 GMP Record of Decision. Under this alternative, the NPS would remove the current bison fencing on NPS lands.

Alternative 2 would incorporate active elk management to redistribute elk from areas of overconcentration. Public elk hunting would continue in the Preserve, and NPS would use elk dispersal tools in the Park, including non-lethal hazing, and limited lethal removal using trained volunteers and other authorized agents. Additional exclosures (fencing) would be constructed for the purpose of protecting sensitive habitat or for habitat restoration. This alternative would follow the current direction in the GMP for bison, as described for Alternative 1.

Alternative 3 (the NPS Preferred Alternative) would include public elk hunting in the Preserve, and the same non-lethal and lethal elk redistribution tools described under Alternative 2. The NPS would also make a programmatic decision to amend the GMP and manage a bison herd in the park after acquisition of the Medano Ranch. For the first 5-7 years after acquisition of the Medano Ranch, the NPS would seek to partner with TNC to manage the bison herd. After this timeframe, the NPS would assume responsibility of bison management within the existing bison fence, with a population goal of 80 to 260 animals. The bison range could be expanded within the life of the plan, at which point the NPS could consider a population goal between 80 and 560 animals. Tools used to manage bison abundance and distribution in the future would include roundup and translocation, hazing, and limited lethal removal.

Under Alternative 4, public elk hunting in the Preserve would continue, and the NPS would use the same non-lethal and lethal elk redistribution tools described under Alternatives 2 and 3 in the Park. Under this alternative, the NPS would acquire the Medano Ranch and work with TNC to remove all bison, but would make a programmatic decision to amend the GMP so that after a period of 5-7 years, the NPS would establish a new conservation herd to be managed by the NPS. Once re-established, bison abundance and range would be the same as described for alternative 3, as would potential future bison management tools.

Because the range of alternatives includes the removal of bison completely or deferred NPS management of bison for 5-7 years, and because of concerns that the high concentration of elk could be resulting in impacts on certain park resources such as wetlands, the initial phase of this plan would focus on managing elk to alter their high concentrations at certain times in the Park. Over the long term, the NPS would develop quantitative metrics of ecological integrity and vegetative condition as additional triggers to adaptively manage elk and, possibly, bison, depending on the selected action. Over the long-term, the NPS would use adaptive monitoring and adaptive management of elk and, if appropriate, bison, to support a historical array of ecologically healthy plant communities across the Park's landscape that are used by these ungulates, specifically riparian and wetland communities, as well as shrub and grassland communities. The goal of this long-term adaptive management framework is to continually evaluate the effectiveness of the ungulate management plan; improve management over time; and ensure that impacts of elk and bison, and their management inside the Park, remain in the range predicted in the UMP/EIS.

The NPS is preparing this UMP DEIS to analyze specific proposals related to elk management tools that might be used to address overconcentration issue, while providing a programmatic (broader and higher level) analysis of potential decisions about the future of bison in GRSA. Those decisions include (1) whether or not to amend the GMP to allow for bison at GRSA, and if so, how many bison might be appropriate; (2) when the NPS would assume bison management responsibilities; and (3) what management tools the NPS might use upon assuming bison management responsibilities. This programmatic analysis is intended to address the general environmental issues, impacts, and benefits relating to these broad decisions about bison. NPS feels this a meaningful point to make these broad decisions, but there is too much uncertainty at this time as to the ultimate specific implementation of potential bison management tools, should the NPS select an alternative that includes bison at GRSA. If such an alternative becomes the selected action, this programmatic National Environmental Policy Act review for bison would support more specific subsequent decisions and provide a body of information that can be incorporated by reference into any future planning/compliance that may be needed.

Public Participation: After the Environmental Protection Agency Notice of Availability is published, the NPS will schedule public meetings to be held during the comment period. Dates, times, and locations of these meetings will be announced in press releases and on the NPS Planning, Environment, and Public Comment website for the UMP DEIS at http://parkplanning.nps.gov/grsa.

How To Comment: You are encouraged to comment on the UMP DEIS at http://parkplanning.nps.gov/grsa. You may also hand-deliver or mail your comments to the Superintendent, Great Sand Dunes National Park and Preserve, 11500 Highway 150, Mosca, Colorado 81146. Written comments will also be accepted during scheduled public meetings discussed above. Comments will not be accepted by fax, email, or by any method other than those specified above. Bulk comments in any format (hard copy or electronic) submitted on behalf of others will not be accepted. Before including your address, phone number, email address, or other personal identifying information in your comment, you should be aware that your entire comment—including your personal identifying information—may be made publicly available at any time. While you can ask us in your comment to withhold your personal identifying information from public review, we cannot guarantee that we will be able to do so.

Authority: 42 U.S.C. 4321 et seq.; 43 CFR part 46.

Dated: April 2, 2018.
Sue E. Masica,
Regional Director, Intermountain Region, National Park Service.

[FR Doc. 2018-07681 Filed 4-12-18; 8:45 am]

BILLING CODE 4312-52-P